ENVIRONMENTAL PROTECTION AGENCY

[FRL-9225-2]

Public Water System Supervision Program Revision for the State of North Dakota

AGENCY: Environmental Protection Agency (EPA).

ACTION: Notice.

SUMMARY: In accordance with the provisions of section 1413 of the Safe Drinking Water Act (SDWA), 42 U.S.C. 300g-2, and 40 CFR 142.13, public notice is hereby given that the State of North Dakota has revised its Public Water System Supervision (PWSS) Primacy Program by adopting federal regulations for the Groundwater Rule, Long Term 2 Enhanced Surface Water Treatment Rule and Stage 2 Disinfection By-Product Rule which correspond to the National Primary Drinking Water Regulations (NPDWR) in 40 CFR Part 141 and 142. The EPA has completed its review of these revisions in accordance with the SDWA, and proposes to approve North Dakota's primacy revisions for the above stated Rules.

Today's approval action does not extend to public water systems in Indian country, as defined in 18 U.S.C. 1151. Please see Supplementary Information, Item B.

DATES: Any member of the public may request a public hearing on this determination by December 13, 2010. Please see Supplementary Information, Item C, for details. Should no timely and appropriate request for a hearing be received, and the Regional Administrator (RA) does not elect to hold a hearing on his own motion, this determination shall become effective December 13, 2010. If a hearing is granted, then this determination shall not become effective until such time following the hearing, as the RA issues an order affirming or rescinding this action.

ADDRESSES: Requests for a public hearing shall be addressed to: James B. Martin, Regional Administrator, c/o Karen Shirley (8P-W-DW), U.S. EPA, Region 8, 1595 Wynkoop Street, Denver, CO 80202-1129.

All documents relating to this determination are available for inspection at the following locations: (1) U.S. EPA, Region 8, Drinking Water Program, 1595 Wynkoop Street, Denver, CO 80202-1129, (2) North Dakota Department of Health, Division of Municipal Facilities, 918 East Divide, Bismark, North Dakota 58501-1947.

FOR FURTHER INFORMATION CONTACT: Karen Shirley at 303-312-6104.

SUPPLEMENTARY INFORMATION: EPA approved North Dakota's application for assuming primary enforcement authority for the PWSS Program, pursuant to section 1413 of the SDWA, 42 U.S.C. 300g-2, and 40 CFR Part 142. North Dakota's Department of Health administers North Dakota's PWSS Program.

A. Why are revisions to state programs necessary?

States with primary PWSS enforcement authority must comply with the requirements of 40 CFR Part 142 for maintaining primacy. They must adopt regulations that are at least as stringent as the NPDWRs at 40 CFR Parts 141 and 142, as well as adopt all new and revised NPDWRs in order to retain primacy (40 CFR 142.12(a)).

B. How does today's action affect Indian country in North Dakota?

North Dakota is not authorized to carry out its PWSS Program in “Indian country.” This includes, but is not limited to, land within the exterior boundaries of Fort Berthold, Spirit Lake, Standing Rock Sioux, and Turtle Mountain Indian Reservations; any land held in trust by the United States for an Indian tribe, and any other areas which are “Indian country” within the meaning of 18 U.S.C. 1151.

C. Requesting a Hearing

Any request for a public hearing shall include: (1) The name, address, and telephone number of the individual, organization, or other entity requesting a hearing; (2) a brief statement of the requester's interest in the RA's determination and of information that he/she intends to submit at such hearing; and (3) the signature of the requester or responsible official, if made on behalf of an organization or other entity.

Notice of any hearing shall be given not less than fifteen (15) days prior to the time scheduled for the hearing and will be made by the RA in the Federal Register and newspapers of general circulation in the State. A notice will also be sent to both the person(s) requesting the hearing and the State. The hearing notice will include a statement of purpose, information regarding time and location, and the address and telephone number where interested persons may obtain further information. The RA will issue a final determination upon review of the hearing record.

Frivolous or insubstantial requests for a hearing may be denied by the RA. However, if a substantial request is made within thirty (30) days after this notice, a public hearing will be held.

Please bring this notice to the attention of any persons known by you to have an interest in this determination.

Dated: September 23, 2010.
James B. Martin
Regional Administrator, Region 8.

[FR Doc. 2010-28501 Filed 11-10-10; 8:45 am]

BILLING CODE 6560-50-P